DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before September 25, 2014.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on August 14, 2014.
Donald Burger,
Chief, General Approvals and Permits.

Application No. | Docket No. | Applicant | Regulation(s) affected | Nature of special permits thereof
New Special Permits
16199-N |  | Schlumberger Oilfield UK Plc Dyce Aberdeen, UK | 49 CFR 173.201(c), 173.202(c), 173.203(c), 173.301(f), 173.302(a), 173.304(a) and (d) | To authorize the transportation in commerce of a toxic flammable gas in a non-DOT specification cylinder. (modes 1, 2, 4)
16211-N |  | East Penn Manufacturing Company Inc. Lyon Station, PA | 49 CFR 173.6(a)(1)(ii) | To authorize the transportation in commerce of lead acid batteries that weigh up to 75 kg as materials of trade. (mode 1)
16212-N |  | Entegris, Inc., Billerica, MA | 49 CFR 173.83(b) | To authorize the transportation in commerce of certain dual hazard gases without meeting segregation requirements when transported by vessel. (mode 3)
16217-N |  | Fuji Electric Co., Ltd. Shinagawa-ku, To | 49 CFR 173.310 | To authorize the manufacture, mark, sale and use of a neutron radiation detector containing a Division 2.1 flammable gas. (modes 1, 2, 4)
16218-N |  | Mountain Blade Runner, LLC Montrose, CO | 49 CFR § 172.101, Column (9B), § 172.204(c)(3), § 173.27(b)(2), § 175.30(a)(1), § 172.200, § 172.301(c), Part 178 and § 175.75 | To authorize the transportation in commerce of certain hazardous materials by 14 CFR Part 133 Rotorcraft External Load Operations transporting hazardous materials attached to or suspended from an aircraft, in remote areas of the U.S. only, without being subject to hazard communication requirements, quantity limitations and certain loading and stowage requirements. (mode 4).

[FR Doc. 2014-20070 Filed 8-25-14; 8:45 am]

BILLING CODE 4909-60-M